DEPARTMENT OF TRANSPORTATION

National Highway Traffic Safety Administration

[Docket No. DOT-NHTSA-2018-0091]

Notice of Agency Information Collection and Request for Comments

AGENCY: National Highway Traffic Safety Administration (NHTSA), U.S. Department of Transportation (DOT).

ACTION: Notice and request for comments.

SUMMARY: The U.S. Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Written comments should be submitted by December 24, 2018.

ADDRESSES: You may submit comments identified by Docket No. DOT-NHTSA-2018-0091 through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Lisandra Garay-Vega, Office of Crash Avoidance Standards (NRM-220), (202) 366-5274, National Highway Traffic Safety Administration, W43-312, Department of Transportation, 1200 New Jersey Avenue SE, Washington, DC 20590, Please identify the relevant collection of information by referring to its OMB Control Number.

SUPPLEMENTARY INFORMATION: Title: 49 CFR part 574, Tire Identification and Recordkeeping.

OMB Control Number: 2127-0050.

Type of Request: Extension of a currently approved collection of information.

Abstract: 49 U.S.C. 30117(b) requires each tire manufacturer to collect and maintain records of the first purchasers of new tires. To carry out this mandate, 49 CFR part 574, Tire Identification and Recordkeeping, requires tire dealers and distributors to record the names and addresses of retail purchasers of new tires and the identification numbers(s) of the tires sold. A specific form is provided to tire dealers and distributors by tire manufacturers for recording this information. The completed forms are returned to the tire manufacturers where they are retained for not less than five years. Part 574 requires independent tire dealers and distributors to provide a registration form to consumers with the tire identification number(s) already recorded and information identifying the dealer/distributor. The consumer can then record his/her name and address and return the form to the tire manufacturer via U.S. mail, or alternatively, the consumer can provide this information electronically on the tire manufacturer's website if the tire manufacturer provides this capability. Additionally, motor vehicle manufacturers are required to record the names and addresses of the first purchasers (for purposes other than resale), together with the identification numbers of the tires on the new vehicle, and retain this information for not less than five years.

The information is used by a tire manufacturer after it or the agency determines that some of its tires either fail to comply with an applicable safety standard or contain a safety related defect. With the information, the tire manufacturer can notify the first purchaser of the tire and provide them with any necessary information or instructions to remedy the non-compliance situation or safety defect. Without this information, efforts to identify the first purchaser of tires that have been determined to be defective or nonconforming pursuant to Sections 30118 and 30119 of Title 49 U.S.C. would be impeded. Further, the ability of the purchasers to take appropriate action in the interest of motor vehicle safety may be compromised. We estimate that the collection of information affects 10 million respondents annually. This group consists of approximately 20 tire manufacturers, 59,000 new tire dealers and distributors, and 10 million consumers who choose to register their tire purchases with tire manufacturers. A response is required by motor vehicle manufacturers upon each sale of a new vehicle and by non-independent tire dealers with the sale of a new tire. A consumer may elect to respond when purchasing a new tire from an independent tire dealer.

Affected Public: New tire dealers, new tire distributors, and consumers of new tires.

Estimated Number of Respondents: 10 million.

Frequency: once.

Number of Responses: 54,000,000.

Estimated Total Annual Burden Hours: 250,000.

The total tire registration hours are estimated assuming 45 seconds or 0.0125 hours per tire sale to record information and that each form registers three tires, on average. (0.0125 × (54,000,000/3) = 225,000 hours).

The estimated burden is as follows:

New tire dealers and distributors: 59,000.

Consumers: 10,000,000.

Total tire registrations (manual): 54,000,000.

Total tire registration hours (manual): 225,000.

Recordkeeping hours (manual): 25,000.

Total annual tire registration and recordkeeping hours: 250,000.

Estimated Total Annual Burden Cost: $6,085,000.

The monetized cost associated with the total burden hours, using a labor rate of $24.34 per hour,¹ is $6,085,000. ($24.34/hour × 250,000 hours = $6,085,000). It was previously calculated using a labor rate of $20 per hour. ($20.00/hour × 250,000 hours = $5,000,000). Therefore, the monetized cost associated with the total burden hours in this renewal application is $1,085,000 more than the previous estimate. ($6,085,000−$5,000,000 = $1,085,000).

¹ The median hourly rate among all occupations, May 2017, according to the Bureau of Labor Statistics, see https://www.bls.gov/oes/current/oes_nat.htm#00-0000

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995, 44 U.S.C. Chapter 35; and delegation of authority at 49 CFR 1.95 and 501.8.

Raymond R. Posten,
Associate Administrator for Rulemaking.

[FR Doc. 2018-23046 Filed 10-22-18; 8:45 am]

BILLING CODE 4910-59-P